DEPARTMENT OF AGRICULTURE

Agricultural Marketing Service

[Doc. No. AMS-LPS-14-0052]

United States Standards for Grades of Carcass Beef

AGENCY: Agricultural Marketing Service, USDA.

ACTION: Notice, request for comments.

SUMMARY: The Agricultural Marketing Service (AMS) of the Department of Agriculture (USDA) is seeking public comments on revising the United States Standards for Grades of Carcass Beef. USDA is requesting comments concerning, but not limited to, the beef yield grade standard and carcass maturity. The current standards do not adequately reflect the genetic and production changes that have taken place in the cattle population since 1965 when a cutability or yield grade standard was first adopted. In 1997, the maturity requirements were changed to improve uniformity and consistency. Since that time, research has indicated that carcasses from fed steers and heifers less than 30 months of age, based on dentition, should be classified “A” maturity for grading purposes even though the skeletal maturity characteristics of “B” or older may be present. Industry and other groups have discussed the possibility of changing the grade standards for carcass beef with AMS.

DATES: Comments on revising the standard are due no later than November 13, 2014.

ADDRESSES: Comments should be sent to Beef Carcass Revisions, Standardization Branch, LPS Program, AMS, USDA, 1400 Independence Ave., SW., STOP 0258, Washington, DC 20250. Comments may also be sent by fax to: (202) 690-2746 or by email to: (beefcarcassrevisions@ams.usda.gov). For additional information, please contact Lawrence Yates at: Lawrence.Yates@ams.usda.gov, or (402) 621-0836.

SUPPLEMENTARY INFORMATION: Section 203(c) of the Agricultural Marketing Act of 1946, as amended, directs and authorizes the Secretary of Agriculture “to develop and improve standards of quality, condition, quantity, grade, and packaging and recommend and demonstrate such standards in order to encourage uniformity and consistency in commercial practices.” AMS is committed to carrying out this authority in a manner that facilitates the marketing of agricultural commodities and makes copies of official standards available upon request. The United States Standards for Grades of Carcass Beef do not appear in the Code of Federal Regulations but are maintained by USDA. These standards are located on USDA's Web site at http://www.ams.usda.gov/AMSv1.0/LSSTDZ. on the right side of the Web page select Standards to locate the Beef Carcass Grade Standard. To change the United States Standards for Grades of Carcass Beef, AMS plans to utilize the procedures it published in the August 13, 1997, Federal Register and that appear in part 36 of Title 7 of the Code of Federal Regulations (7 CFR part 36).

Background: Federal beef grading is a voluntary fee for service program, provided under the Agricultural Marketing Act of 1946, as amended (7 U.S.C. 1621 et seq.). A primary purpose of grades is to divide the population of cattle and beef into uniform groups (of similar quality, yield, value, etc.), in order to facilitate marketing. Grades provide a simple, effective means of describing a product that is easily understood by both buyers and sellers. By identifying separate and distinct segments of a commodity, grades enable buyers to obtain that particular portion of the entire range of a commodity that meets their individual needs. At the same time, grades are important in transmitting information to cattlemen to help ensure informed decisions are made. For example, the market preference for a particular grade of beef is communicated to cattle producers so they can adjust their production accordingly.

When beef is voluntarily graded, the official grade consists of a quality grade and/or a yield grade. The quality grades are intended to identify differences in the palatability or eating satisfaction of cooked beef principally through the characteristics of marbling and maturity. The principal official USDA quality grades for young (maturity groups “A” and “B”) cattle and carcasses are Prime, Choice, Select, and Standard.

USDA recognizes that the beef standards must be relevant to be of greatest value to stakeholders. Recommendations for changes in the standards may be initiated by USDA or by interested parties. The beef yield grade standard and equation was developed 50 years ago, and the cattle industry has undergone considerable change during those years. At that time, carcasses weighed in the 500 to 600 pound weight range. Today, carcasses average weight is in the 800 to 900 pound range, a 50 percent increase. These carcasses are clearly beyond the scope of USDA's current yield grade equation. This is illustrated by research¹ that has shown the application of the USDA's yield grade equation introduces a ribeye area bias, thereby skewing carcass values. It is imperative that the current yield grade standard and associated metrics be applicable to today's carcass population.

¹ Lawrence et al., 2008, Journal of Animal Science 86:1434

Significant changes (such as feeding regimes—grass fed versus grain fed, instrument grading, management, and export requirements) have taken place in the beef industry since the current grade standards were adopted. Research ² revealed physiological maturity and its relation to chronological age, as estimated by dentition, results in a gender-dependent maturity misclassification. Further, carcasses from fed cattle under 30 months of age resulted in equivalent tenderness and trained taste panel assessments between “A” and “B” maturity groups.³ Gender bias in maturity misclassification of carcasses from cattle under 30 months results in decreased carcass value even though tenderness and expert taste panel outcomes are the same. Grades of beef carcasses are intended to be related both in value and with consumer acceptance. Collectively, the above discussion indicates that the current standards may be improved by reexamining beef carcass yield grade as well as the methodology for maturity assessment.

² Lawrence et al., 2001, Journal of Animal Science 79:1683

³ Acheson et al., 2014, Journal of Animal Science 92:1792

AMS is soliciting comments from stakeholders about whether changes in the beef carcass yield grade standards and the methodology for maturity assessment should be made, and if so, what specific changes should be made. If, after analyzing the comments, AMS determines that changes are warranted, a notice will be published in the Federal Register proposing specific changes. Interested parties will have an opportunity to comment prior to a final decision adopting any changes.

AMS is also soliciting comments on a review of the Department's beef instrument-grading program that was conducted by the American Meat Science Association in response to a USDA Office of Inspector General Report No. 50601-0002-31, issued July 2013. The beef grading instrument uses elements of the United States Standards for Grades of Carcass Beef. The report and review are available at http://www.ams.usda.gov/PublicationsInstrumentGradingSystems.

Dated: August 11, 2014.
Rex A. Barnes,
Associate Administrator, Agricultural Marketing Service.

[FR Doc. 2014-19309 Filed 8-14-14; 8:45 am]

BILLING CODE 3410-02-P